POSTAL SERVICE

39 CFR Part 20

International Mailing Services: Proposed Price Changes

AGENCY: Postal Service™.

ACTION: Notice of proposed price adjustments, opportunity to comment.

SUMMARY: On January 15, 2015, the Postal Service filed a notice of mailing services price adjustments with the Postal Regulatory Commission (PRC) for products and services covered by Mailing Standards of the United States Postal Service, International Mail Manual (IMM®), to be effective on April 26, 2015. Following the completion of this proceeding, the Postal Service will revise Notice 123, Price List, to reflect the new prices.

DATES: We must receive your comments on or before February 23, 2015.

ADDRESSES: Comments regarding this proposal are invited. Mail or deliver comments to the manager, Product Classification, U.S. Postal Service®, 475 L'Enfant Plaza SW., RM 4446, Washington, DC 20260-5015. You may inspect and photocopy all written comments at USPS® Headquarters Library, 475 L'Enfant Plaza SW., 11th Floor N., Washington, DC by appointment only between the hours of 9 a.m. and 4 p.m., Monday through Friday by calling 1-202-268-2906 in advance. Email comments, containing the name and address of the commenter, may be sent to: ProductClassification@usps.gov, with a subject line of “April 2015 International Mailing Services Price Change.” Faxed comments are not accepted.

FOR FURTHER INFORMATION CONTACT: Paula Rabkin at 202-268-2537.

SUPPLEMENTARY INFORMATION: The Postal Service hereby gives notice that, pursuant to 39 U.S.C. 3622, on January 15, 2015, it filed with the Postal Regulatory Commission a Notice of Market-Dominant Price Adjustment. Proposed prices and other documents relevant to this filing are available under Docket No. R2015-4 on the PRC's Web site at www.prc.gov.

This proposed rule includes price changes for First-Class Mail International® and certain international extra services. All of the proposed price change percentages are based on CPI prices approved by the PRC in Docket No. 2103-10, plus the Exigent Surcharge approved by the PRC in Docket No. R2013-11.

First-Class Mail International

We propose to increase prices for single-piece First-Class Mail International letters, postcards, and flats by approximately 4.2 percent. (Under this proposal, the 2-ounce letter-size price to Canada will continue at the same price as the 1-ounce letter-size price to Canada.)

International Extra Services and Fees

The Postal Service proposes to increase prices for certain international market dominant extra services including:

• Certificate of Mailing (0.35%)

• Registered Mail™ (2.2%)

• Return Receipt (2.7%).

Following the completion of Docket No. R2015-4, the Postal Service will adjust the prices for products and services covered by the International Mail Manual. These prices will be on Postal Explorer® at pe.usps.com.

Stanley F. Mires,
Attorney, Federal Requirements.

[FR Doc. 2015-01097 Filed 1-22-15; 8:45 am]

BILLING CODE 7710-12-P